DEPARTMENT OF HEALTH AND HUMAN SERVICES

National Committee on Vital and Health Statistics: Meeting

Pursuant to the Federal Advisory Committee Act, the U.S. Department of Health and Human Services announces the following federal advisory committee meeting.

Name: National Committee on Vital and Health Statistics. Subcommittee on Standards and Security.

Time and Date: 8:30 A.M. to 5 P.M., February 6, 2002, 8:30 A.M. to 1 P.M., February 7, 2002.

Place: J.W. Marriott Hotel, 1331 Pennsylvania Avenue, NW., Washington, DC, Telephone (202) 393-2000.

Status: Open.

Purpose: On February 6, the Subcommittee on Standards and Security of the National Committee on Vital and Health Statistics (NCVHS) will hear testimony from invited panels of experts on issues related to current Health Insurance Portability and Accountability Act medical data code sets and any gaps in their coverage. On February 7, the Subcommittee will hear testimony from panels of experts and discuss approaches to the model form for covered entities to use in submitting HIPAA compliance extension plans pursuant to Public Law 107-105. Individuals and affected parties interested in providing testimony during the panel discussions should contact Vivian Auld (auld@nlm.nih.gov), telephone (301) 496-7974.

FOR FURTHER INFORMATION CONTACT: Substantive information about the planned meetings may be obtained from Karen Trudel, Senior Technical Adviser, Security and Standards Group, Centers for Medicare and Medicaid Services. MS: N2-14-17, 7500 Security Boulevard, Baltimore, Maryland 21244-1850, telephone (410) 786-9937, or Marjorie Greenberg, Executive Secretary, NCVHS, National Center for Health Statistics, Centers for Disease Prevention and Control, Room 1100, Presidential Building, 6525 Belcrest Road, Hyattsville, Maryland 20782, telephone (301) 458-4245. Information also is available on the NCVHS Web site: http://www.ncvhs.hhs.gov/, where the agenda for the meeting will be posted when available.

Dated: January 18, 2002.
James Scanlon,
Director, Division of Data Policy, Office of the Assistant Secretary for Planning and Evaluation.

[FR Doc. 02-2061 Filed 1-28-02; 8:45 am]

BILLING CODE 4151-05-M